DEPARTMENT OF TRANSPORTATION

Federal Aviation Administration

14 CFR Part 39

[Docket No. FAA-2010-1115; Directorate Identifier 2010-NM-221-AD]

RIN 2120-AA64

Airworthiness Directives; The Boeing Company Model 747-100, 747-100B, 747-100B SUD, 747-200B, 747-200C, 747-200F, 747-300, 747-400, 747-400D, 747-400F, 747SR, and 747SP Series Airplanes

AGENCY: Federal Aviation Administration (FAA), DOT.

ACTION: Notice of proposed rulemaking (NPRM).

SUMMARY: We propose to adopt a new airworthiness directive (AD) for the products listed above. This proposed AD would require repetitive inspections for damage of the electrical terminal at the left and right flightdeck window 1, and corrective actions if necessary. This proposed AD would also allow for replacing the flightdeck window 1 with a new improved flightdeck window equipped with different electrical connections, which would terminate the repetitive inspections for that flightdeck window 1. This proposed AD was prompted by several reports of electrical arcs at the terminal blocks of the electrically heated flightdeck window 1. We are proposing this AD to prevent smoke and fire in the cockpit, which could lead to loss of visibility, and injuries to or incapacitation of the flightcrew.

DATES: We must receive comments on this proposed AD by January 3, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Louis Natsiopoulos, Aerospace Engineer, Systems and Equipment Branch, ANM-130S, FAA, Seattle Aircraft Certification Office, 1601 Lind Avenue SW., Renton, Washington 98057-3356; telephone (425) 917-6478; fax (425) 917-6590.

SUPPLEMENTARY INFORMATION:

Comments Invited

We invite you to send any written relevant data, views, or arguments about this proposal. Send your comments to an address listed under the ADDRESSES section. Include “Docket No. FAA-2010-1115; Directorate Identifier 2010-NM-221-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received multiple reports of electrical arcs at the terminal blocks of the flightdeck window 1. In several incidents, the arcs resulted in open flames. An investigation showed that the electrical arcs are caused by loose terminal connections, which are caused by incorrect torque of the screw or an incorrectly installed screw. A loose terminal connection will overheat with electrical current passing through it. An overheated connector can degrade the adjacent electrical circuit (including solder, if present). This condition, if not corrected, could result in smoke and fire in the cockpit, and consequent loss of visibility, and injuries to or incapacitation of the flightcrew.

Relevant Service Information

We have reviewed Boeing Special Attention Service Bulletin 747-30-2081, Revision 2, dated March 10, 2010. Boeing Special Attention Service Bulletin 747-30-2081, Revision 2, dated March 10, 2010, describes procedures for repetitive detailed inspections for damage (including but not limited to a cross-threaded screw, arcing, loose terminal, and heat damage) of the terminal block, connector, and wiring at the left and right flightdeck window 1, and corrective actions if necessary. The corrective actions are applying the correct torque to a loose electrical connection, repairing damaged wiring, or installing a replacement window 1. Boeing Special Attention Service Bulletin 747-30-2081, Revision 2, dated March 10, 2010, specifies a compliance time of within 500 hours after the date on the service bulletin for doing the initial detailed inspection.

Boeing Special Attention Service Bulletin 747-30-2081, Revision 2, dated March 10, 2010, specifies that the replacement window can either be a window that uses screws and lugs for the electrical connection or a window that uses pins and sockets for the electrical connections. For airplanes on which a replacement window that uses pins and sockets is installed, Boeing Special Attention Service Bulletin 747-30-2081, Revision 2, dated March 10, 2010, also specifies changes to the related wire bundle. Boeing Special Attention Service Bulletin 747-30-2081, Revision 2, dated March 10, 2010, specifies that installing a window that uses pins and sockets eliminates the need for the repetitive inspections. If the window is replaced with the same type of window (i.e., windows with the screw and lug type electrical terminations), then the inspection must be repeated within 500 flight hours from the date of the accomplishment of these corrective actions and every 6,000 flight hours thereafter.

Related Rulemaking

We issued AD 2010-15-01, Amendment 39-16367 (75 FR 39804, July 13, 2010), that applies to certain Model 757 airplanes, Model 767 airplanes, and Model 777-200 and -300 series airplanes. That AD requires repetitive inspections for damage (e.g., of the electrical terminal at the left and right flightdeck window 1), and corrective actions if necessary. That AD also allows for replacing the flightdeck window 1 with a new improved flightdeck window equipped with different electrical connections, which terminates the repetitive inspections for that flightdeck window 1. That AD results from several reports of electrical arcs at the terminal blocks of the electrically heated flightdeck window 1. We issued that AD to prevent smoke and fire in the cockpit, which could lead to loss of visibility, and injuries to or incapacitation of the flightcrew.

FAA's Determination

We are proposing this AD because we evaluated all the relevant information and determined the unsafe condition described previously is likely to exist or develop in other products of these same type designs.

Proposed AD Requirements

This proposed AD would require accomplishing the actions specified in the service information described previously, except as discussed under “Differences Between the Proposed AD and the Service Information.”

Differences Between the Proposed AD and the Service Information

Boeing Special Attention Service Bulletin 747-30-2081, Revision 2, dated March 10, 2010, does not explicitly specify an inspection for, nor specify a corrective action for, airplanes on which a screw is found cross threaded during the detailed inspections in paragraph (g) of this proposed AD. If these conditions are found, paragraph (i) of this proposed AD would require replacing the windshield either before further flight if the screw is found to be loose, or within 500 flight hours or 150 days after the inspection if the screw is found to be tight, whichever occurs first.

Where Boeing Special Attention Service Bulletin 747-30-2081, Revision 2, dated March 10, 2010, specifies an interval for repetitive inspections not to exceed 6,000 flight hours, paragraphs (g) and (h) of this proposed AD would require repetitive inspections at intervals not to exceed 6,000 flight hours or 24 months, whichever occurs later. We have determined that this revised interval will not adversely affect safety of the affected airplanes. Boeing concurs with this extension of the interval for the repetitive inspections.

Clarifications of Service Information

Where Boeing Special Attention Service Bulletin 747-30-2081, Revision 2, dated March 10, 2010, and paragraph (h) of this proposed AD state to perform a detailed inspection for damage of the terminal block, connector, and wiring of flightdeck window 1 “within 500 flight hours,” it is also acceptable to do the inspection at zero flight hours (i.e., before the airplane ever leaves the hangar and resumes operations). The intent of this second inspection is for quality assurance purposes. This clarification has been coordinated with Boeing.

We have added paragraph (k) of this proposed AD to clarify that each window is handled separately. In the compliance table in paragraph 1.E., “Compliance,” of Boeing Special Attention Service Bulletin 747-30-2081, Revision 2, dated March 10, 2010, the repeat interval applies to the action, which is doing both Work Packages 1 and 2. If the left window is replaced with a window that uses pins and sockets for the electrical connection, then that replacement terminates the requirements of this proposed AD for that window only. The other window still needs to be inspected.

Costs of Compliance

We estimate that this proposed AD will affect 251 airplanes of U.S. registry.

We estimate the following costs to comply with this proposed AD:

Estimated Costs
Action | Labor cost | Parts cost | Cost per product | Cost on U.S. operators
Inspection | 1 work-hour × $85 per hour = $85 per inspection cycle | None | $85 per inspection cycle | $21,335 per inspection cycle.

We estimate the following costs to do any necessary replacements that would be required based on the results of the proposed inspection. We have no way of determining the number of aircraft that might need these replacements:

On-Condition Costs
Action | Labor cost | Parts cost | Cost per product
Replacement of windshield | Up to 18 work-hours × $85 per hour = $1,530 | Up to $47,592 | Up to $49,122.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2010-1115; Directorate Identifier 2010-NM-221-AD.

Comments Due Date

(a) We must receive comments by January 3, 2011.

Affected ADs

(b) None.

Applicability

(c) This AD applies to The Boeing Company Model 747-100, 747-100B, 747-100B SUD, 747-200B, 747-200C, 747-200F, 747-300, 747-400, 747-400D, 747-400F, 747SR, and 747SP series airplanes, certificated in any category; as identified in Boeing Special Attention Service Bulletin 747-30-2081, Revision 2, dated March 10, 2010.

Subject

(d) Joint Aircraft System Component (JASC)/Air Transport Association (ATA) of America Code 30: Ice and rain protection.

Unsafe Condition

(e) This AD results from several reports of electrical arcs at the terminal blocks of the electrically heated flightdeck window 1. In several of the incidents, the arcs resulted in open flames. We are issuing this AD to prevent smoke and fire in the cockpit, which could lead to loss of visibility, and injuries to or incapacitation of the flightcrew.

Compliance

(f) Comply with this AD within the compliance times specified, unless already done.

Detailed Inspection and Corrective Actions

(g) Within 500 flight hours after the effective date of this AD, do a detailed inspection for damage (including but not limited to a cross-threaded screw, arcing, loose terminal, and heat damage) of the terminal block, connector, and wiring of flightdeck window 1, and do all applicable corrective actions, by accomplishing the actions specified in Work Packages 1 and 2 of Boeing Special Attention Service Bulletin 747-30-2081, Revision 2, dated March 10, 2010, except as provided by paragraph (j) of this AD. Do all applicable corrective actions before further flight, except as required by paragraph (i) of this AD. Except as required by paragraphs (h) and (i) of this AD, repeat the detailed inspection thereafter at intervals not to exceed 6,000 flight hours or 24 months, whichever occurs later. Doing the replacement specified in paragraph (k) of this AD terminates the repetitive inspection requirements of this paragraph for the replaced flightdeck window 1.

(h) For airplanes on which a flightdeck window 1 is replaced with a window that uses screws and lugs for the electrical connections, in accordance with Work Package 1 or 2 of Boeing Special Attention Service Bulletin 747-30-2081, Revision 2, dated March 10, 2010: Except as provided by paragraph (j) of this AD, do the next detailed inspection within 500 flight hours after the corrective action, and repeat the inspection thereafter at intervals not to exceed 6,000 flight hours or 24 months, whichever occurs later. Doing the replacement specified in paragraph (k) of this AD terminates the repetitive inspection requirements of this paragraph for the replaced flightdeck window 1.

Exceptions to the Service Bulletin

(i) If, during the inspection required by paragraph (g) of this AD, a screw is found cross threaded do the applicable corrective action specified in paragraph (i)(1) or (i)(2) of this AD.

(1) If the terminal lug is loose and cannot be tightened: Before further flight, replace the window, in accordance with the Accomplishment Instructions of Boeing Special Attention Service Bulletin 747-30-2081, Revision 2, dated March 10, 2010.

(2) If the terminal lug is tight: Within 150 days or 500 flight hours after the inspection, whichever occurs first, replace the window, in accordance with the Accomplishment Instructions of Boeing Special Attention Service Bulletin 747-30-2081, Revision 2, dated March 10, 2010.

(j) Where paragraph 1.E. of Boeing Special Attention Service Bulletin 747-30-2081, Revision 2, dated March 10, 2010, states in the “Action” column to “do the inspections given in Work Packages 1 and 2,” the intent is “Work Package 1, step 3. or Work Package 2, step 3., as applicable.” Operators are to use one or the other (or both) work instruction, as applicable, to replace the window(s) that need replacing.

Optional Terminating Action

(k) Replacing a flightdeck window 1 that uses screws and lugs for the electrical connections with a flightdeck window that uses pins and sockets for the electrical connections, in accordance with Work Packages 3 or 4 of Boeing Special Attention Service Bulletin 747-30-2081, Revision 2, dated March 10, 2010, ends the repetitive inspection requirements of this AD for that window only.

Credit for Actions Accomplished Previously According to Previous Issue of Service Information

(l) Actions accomplished before the effective date of this AD in accordance with Boeing Special Attention Service Bulletin 747-30-2081, dated August 08, 2006; or Revision 1, dated August 20, 2008; are considered acceptable for compliance with the corresponding actions specified in this AD.

Alternative Methods of Compliance (AMOCs)

(m)(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your Principal Maintenance Inspector or Principal Avionics Inspector, as appropriate, or lacking a principal inspector, your local Flight Standards District Office.

Related Information

(n) For more information about this AD, contact Louis Natsiopoulos, Aerospace Engineer, Systems and Equipment Branch, ANM-130S, FAA, Seattle Aircraft Certification Office, 1601 Lind Avenue SW., Renton, Washington 98057-3356; telephone: (425) 917-6478; fax: (425) 917-6590; e-mail: Elias.Natsiopoulos@faa.gov.

(o) For service information identified in this AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, the FAA, 1601 Lind Avenue, SW., Renton, Washington. For information on the availability of this material at the FAA, call 425-227-1221.

Issued in Renton, Washington, on November 10, 2010.
Jeffrey E. Duven,
Acting Manager, Transport Airplane Directorate, Aircraft Certification Service.

[FR Doc. 2010-29236 Filed 11-18-10; 8:45 am]

BILLING CODE 4910-13-P